DEPARTMENT OF AGRICULTURE

Rural Utilities Service

Information Collection Activity; Comment Request; Correction

AGENCY: Rural Utilities Service, USDA.

ACTION: Notice and request for comments; correction.

SUMMARY: The Rural Utilities Service (the Agency) published a 60-day notice in the Federal Register on September 6, 2018, inviting comments on information collection for which approval from the Office of Management and Budget (OMB) will be requested. The document provided incorrect date.

This notice provides for a correction to the “Date” caption to allow for a 60-day comment period.

FOR FURTHER INFORMATION CONTACT: Michele Brooks, Team Lead, Rural Development Innovation Center—Regulatory Team, USDA, 1400 Independence Avenue SW, STOP 1522, Room 5162, South Building, Washington, DC 20250-1522. Telephone: (202) 690-1078. Email michele.brooks@wdc.usda.gov.

SUPPLEMENTARY INFORMATION:

Correction

In the Federal Register of September 6, 2018, in FR Doc. 2018-19345, on page 45209, in the third column, “Dates” caption to read:

DATES: Comments on this notice must be received by November 20, 2018.

Dated: September 17, 2018.
Christopher A. McLean,
Acting Administrator, Rural Utilities Service.

[FR Doc. 2018-20582 Filed 9-20-18; 8:45 am]

BILLING CODE 3410-15-P